DEPARTMENT OF AGRICULTURE

Forest Service

South Central Idaho Resource Advisory Council

AGENCY: Forest Service, USDA.

ACTION: Notice of meeting.

SUMMARY: The South Central Idaho RAC will meet in Twin Falls, Idaho. The committee is meeting as authorized under the Secure Rural Schools and Community Self-Determination Act (Pub. L. 110-343) and in compliance with the Federal Advisory Committee Act. The purpose of the meeting is to begin the processes of starting the RAC and develop protocols the RAC will use as an Advisory Council.

DATES: The meeting will be held March 18, 2010 from 9:30 a.m.-3:30 p.m.

ADDRESSES: The meeting will be held at The Red Lion Canyon Springs Hotel, 1357 Blue Lakes Blvd. North, Twin Falls, Idaho 83301. Written comments should be sent to Sawtooth National Forest, Attn: Julie Thomas, 2647 Kimberly Road East, Twin Falls, Idaho 83301. Comments may also be sent via e-mail to jathomas@fs.fed.us, or via facsimile to 208-737-3236.

All comments, including names and addresses when provided, are placed in the record and are available for public inspection and copying. The public may inspect comments received at The Sawtooth National Forest Supervisors Office at 2647 Kimberly Road East, Twin Falls, Idaho 83301. Visitors are encouraged to call ahead to 208-737-3200 to facilitate entry into the building.

FOR FURTHER INFORMATION CONTACT: Julie Thomas, Designated Federal Official, Sawtooth National Forest, 208-737-3200.

Individuals who use telecommunication devices for the deaf (TDD) may call the Federal Information Relay Service (FIRS) at 1-800-877-8339 between 8 a.m. and 8 p.m., Eastern Standard Time, Monday through Friday.

SUPPLEMENTARY INFORMATION: The meeting is open to the public. The following business will be conducted: This Resource Advisory Council meeting will specifically deal with procedures that the RAC will use to implement the business of the RAC. The agenda for the meeting can be found at http://www.fs.fed.us/r4/sawtooth/. Persons who wish to bring related matters to the attention of the Committee may file written statements with the Committee staff before or after the meeting. Public input sessions will be provided and individuals who made written requests by March 8, 2010 will have the opportunity to address the Committee at those sessions.

Dated: February 18, 2010.
Julie Thomas,
Designated Forest Official.

[FR Doc. 2010-3648 Filed 2-24-10; 8:45 am]

BILLING CODE 3410-11-M